DEPARTMENT OF THE TREASURY

Office of the Assistant Secretary for International Affairs

Survey of U.S. Ownership of Foreign Securities as of December 31, 2001

AGENCY: Departmental Offices, Department of the Treasury.

ACTION: Notice of reporting requirements.

SUMMARY: By this Notice, the Department of the Treasury is informing the public that it is conducting a mandatory survey of ownership of foreign securities by U.S. residents as of December 31, 2001. This Notice constitutes legal notification to all United States persons (defined below) who meet the reporting requirements set forth in this Notice that they must respond to, and comply with, this survey. United States persons who meet the reporting requirements but who do not receive a set of the survey forms and instructions should contact the Federal Reserve Bank of New York, acting as fiscal agent for the Department of the Treasury, at (212) 720-6300 to obtain a copy. Additional copies of the reporting forms and instructions may be printed from the Internet at: http://www.treas.gov/tic/forms.htm

Definition: A U.S. person is any individual, branch, partnership, associated group, association, estate, trust, corporation, or other organization (whether or not organized under the laws of any State), and any government (including a foreign government, the United States Government, a state, provincial, or local government, and any agency, corporation, financial institution, or other entity or instrumentality thereof, including a government-sponsored agency), who resides in the United States or is subject to the jurisdiction of the United States.

Who Must Report: The following U.S. persons must report on this survey:

• U.S. persons who manage, as custodians, the safekeeping of foreign securities for U.S. persons. These U.S. persons, who include the affiliates in the United States of foreign entities, must report on this survey if the total market value of the foreign securities whose safekeeping they manage on behalf of U.S. persons—aggregated over all accounts and for all branches and affiliates of their firm—is $100 million or more as of the close of business on December 31, 2001.

• U.S. persons who own foreign securities. These U.S. persons, who include the affiliates in the United States of foreign entities, must report on this survey if the total market value of these foreign securities—aggregated over all accounts and for all branches and affiliates of their firm—is $100 million or more as of the close of business on December 31, 2001.

What to Report: This report will collect information on U.S. resident holdings of foreign securities, including foreign equities, short-term debt securities (including selected money market instruments), and long-term debt securities.

How to Report: Copies of the survey forms and instructions, which contain complete information on reporting procedures, can be obtained by contacting the survey staff of the Federal Reserve Bank of New York at (212) 720-6300, e-mail: SHC.help@ny.frb.org. The mailing address is: Federal Reserve Bank of New York, Statistics Function, 4th Floor, 33 Liberty Street, New York, NY 10045-0001.

When to Report: Data should be submitted to the Federal Reserve Bank of New York, acting as fiscal agent for the Department of the Treasury, by February 15, 2002.

Paperwork Reduction Act Notice: This data collection has been approved by the Office of Management and Budget (OMB) in accordance with the Paperwork Reduction Act and assigned control number 1505-0146. An agency may not conduct or sponsor, and a person is not required to respond to, a collection of information unless it displays a valid control number assigned by OMB. The estimated average annual burden associated with this collection of information is 16 hours per respondent for exempt reporters, 40 hours per respondent reporting U.S. resident custodian information on Schedule 3, 120 hours per U.S. resident investor providing detailed information on Schedule 2, and 360 hours per U.S. resident custodian reporting detailed information on Schedule 2. Comments concerning the accuracy of this burden estimate and suggestions for reducing this burden should be directed to the Department of the Treasury, Attention Administrator, International Portfolio Investment Data Systems, Room 5205 MT, Washington, D.C. 20220, and to OMB, Attention Desk Officer for the Department of the Treasury, Office of Information and Regulatory Affairs, Washington, D.C. 20503.

Dated: September 6, 2001.
Dwight Wolkow,
Administrator, International Portfolio Investment Data Reporting Systems (202) 622-1276; e-mail: dwight,wolkow@do.treas.gov.

[FR Doc. 01-22804 Filed 9-10-01; 8:45 am]

BILLING CODE 4810-25-M